DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Jail Diversion and Trauma Recovery—Priority to Veterans Program Evaluation—NEW

The Substance Abuse and Mental Health Services Administration's (SAMHSA), Center for Mental Health Services (CMHS) has implemented the Jail Diversion and Trauma Recovery Program (JDTR)—Priority to Veterans to support local implementation and State-wide expansion of trauma-integrated jail diversion programs to reach individuals with post traumatic stress disorder (PTSD) and trauma related disorders involved in the justice system. JDTR requires grantees to implement a State infrastructure program linked to a local pilot criminal justice diversion project. At the State level, the State Mental Health Authority (SMHA) will convene a State Advisory Committee that provides oversight of pilot projects' training, diversion, service delivery and local project evaluation, as well as design and implement plans to disseminate knowledge about effective pilot projects and to replicate them in other communities in the State.

CMHS is requesting approval from the Office of Management and Budget (OMB) to implement a data collection document, the Semi-Annual Progress Report (SAPR), to evaluate the implementation, expansion, and sustainability of jail diversion and trauma informed services developed under the JDTR program.

The current proposal requests implementing the Semi-Annual Progress Report (SARP) to collect information in the following areas:

a. Document the State and pilot level goals for the project;

b. Describe the project environment, including changes that have helped or hindered implementation;

c. Estimate project spending on State, pilot, and evaluation activities;

d. Describe activities and progress on State level infrastructure change components, including barriers to progress;

e. Report on pilot project progress, including activities related to the pilot program, changes to program plans, and barriers to implementation;

f. Describe any project accomplishments, including documenting numbers and types of trainings, as well as any policy changes; and

g. Describe and update progress in meeting cross-site client evaluation requirements.

This information would be collected twice a year: in March and September. Six grantees were awarded 5-year grants in FY 2008 and six more 5-year grants were funded in FY2009. The six FY 2008 grantees piloted the data collection instrument in March of FY 2009. The six additional grantees awarded on September 30, 2009 would commence data collection in March of FY 2010. The burden estimate for completing the SAPR is as follows:

FY 2010 Annual Reporting Burden
Data collection activity | Number of respondents ¹ | Responses per respondent ² | Total responses | Average hours per response | Total hour burden
Semi-Annual Progress report | ² 12 | 1 | 12 | 15 | 180
Overall Total | 12 |  | 12 |  | 180
¹ The respondents are the States.
² The Project Director for each Grantee is responsible for compiling and submitting the SAPR.

FY 2011 Annual Reporting Burden
Data collection activity | Number of respondents ¹ | Responses per respondent ² | Total responses | Average hours per response | Total hour burden
Semi-Annual Progress report | 12 | 2 | 24 | 15 | 360
Overall Total | 12 |  | 24 |  | 360
¹ The respondents are the States.
² The Project Director for each Grantee is responsible for compiling and submitting the SAPR.

FY 2012 Annual Reporting Burden
Data collection activity | Number of respondents ¹ | Responses per respondent ² | Total responses | Average hours per response | Total hour burden
Semi-Annual Progress report | 12 | 2 | 24 | 15 | 360
Overall Total | 12 |  | 24 |  | 360
¹ The respondents are the States.
² The Project Director for each Grantee is responsible for compiling and submitting the SAPR

FY 2013 Annual Reporting Burden
Data collection activity | Number of respondents ¹ | Responses per respondent ² | Total responses | Average hours per response | Total hour burden
Semi-Annual Progress report | 12 | 2 | 24 | 15 | 360
Overall Total | 12 |  | 24 |  | 360
¹ The respondents are the States.
² The Project Director for each Grantee is responsible for compiling and submitting the SAPR.

Annualized Reporting Burden
Data collection activity | Annualized number of respondents | Annualized total responses | Annualized total hour burden
Semi-Annual Progress Report | 12 | 21 | 315

Written comments and recommendations concerning the proposed information collection should be sent by January 4, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: November 25, 2009.
Elaine Parry,
Director, Office of Program Services.

[FR Doc. E9-28953 Filed 12-3-09; 8:45 am]

BILLING CODE 4162-20-P